DEPARTMENT OF DEFENSE

Office of the Secretary

[No. DoD-2007-OS-0093]

Proposed Collection: Comment Request

AGENCY: Department of Defense, Defense Security Service.

ACTION: Notice.

In compliance with section 3506(c)(2)(A) of the Paperwork Reduction Act of 1995, the Defense Security Service (DSS) announces the proposed extension of a public information collection affecting cleared DoD contractors and seeks public comments on the provision thereof. Comments are invited on: (a) Whether the proposed collection shall have practical utility; (b) the accuracy of the agency's estimate of the burden of the information to be collected; (c) ways to enhance the quality, utility and clarity of the information to be collected; and (d) ways to minimize the burden of the information collection on respondents, including through the use of automated collection techniques or other forms of information technology.

DATES: Consideration will be given to all comments received by October 26, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed data collection or obtain a copy of the proposal and associated collection instrument, please write to the Defense Security Service, Program Integration Branch, 1340 Braddock Place, Alexandria, VA 22314-1650, or call Defense Security Service, (703) 325-5327.

Title, Associated Form, and OMB Number: “Department of Defense Security Agreement”, “Appendage to Department of Defense Security Agreement” “Certificate Pertaining to Foreign Interests”; DD Forms 441, 441-1 and SF 328; OMB Control Number 0704-0194.

Needs and Uses: Executive Order (EO) 12829, “National Industrial Security Program (NISP)” stipulates that the Secretary of Defense shall serve as the Executive Agent for inspecting and monitoring the contractors, licensees, and grantees who require or will require access to or who store or will store classified information; and for determining the eligibility for access to classified information of contractors, licensees, and grantees and their respective employees. The specific requirements necessary to protect classified information released to private industry are set forth in DoD 5200.22-M. “National Industrial Security Program Operating Manual (NISPOM).” Respondents must execute DD Form 441, “Department of Defense Security Agreement,” which is the initial contract between industry and the government. This legally binding document details the responsibility of both parties and obligates the contractor to fulfill requirements outlined in DoD 5220.22-M. The DD Form 441-1, “Appendage to Department of Defense Security Agreement,” is used to extend the agreement to branch offices of the contractor. SF Form 328, “Certificate Pertaining to Foreign Interests” must be submitted to provide certification regarding elements of Foreign Ownership, Control or Influence (FOCI) as stipulated in paragraph 2-302b of the DoD 5220.22-M.

Affected Public: Business or other for-profit and not-for-profit institutions.

Total Annual Burden Hours: 9,108.

Number of Respondents: 3,070.

Responses Per Respondent: 2.

Average Burden Per Respondent: 1.5 hours.

Frequency: One time and/or on occasion (e.g., initial facility clearance processing, when the respondent changes: name, organizational structure, moves; or upon request, etc.)

SUPPLEMENTARY INFORMATION:

Summary of Information Collection

The execution of the DD Form 441, 441-1 and SF 328 is a factor in making a determination as to whether a contractor is eligible to have a facility security clearance. It is also a legal basis for imposing NISP security requirements on eligible contractors. These requirements are necessary in order to preserve and maintain the security of the United States through establishing standards to prevent the improper disclosure of classified information.

Dated: August 21, 2007.
Patricia L. Toppings,
Alternate OSD Federal Register Liaison Officer, Department of Defense.

[FR Doc. 07-4175 Filed 8-24-07; 8:45 am]

BILLING CODE 5001-06-M